DEPARTMENT OF COMMERCE

International Trade Administration

[A-583-869]

Passenger Vehicle and Light Truck Tires From Taiwan: Amended Preliminary Determination of Sales at Less Than Fair Value

AGENCY: Enforcement and Compliance, International Trade Administration, Department of Commerce.

SUMMARY: On January 6, 2021, the Department of Commerce (Commerce) published its preliminary determination in the less-than-fair-value investigation of passenger vehicle and light truck (PVLT) tires from Taiwan in the Federal Register. Commerce is amending this preliminary determination to correct a significant ministerial error.

DATES: Applicable February 10, 2021.

FOR FURTHER INFORMATION CONTACT: Chien-Min Yang or Lauren Caserta, AD/CVD Operations, Enforcement and Compliance, International Trade Administration, Department of Commerce, 1401 Constitution Avenue NW, Washington, DC 20230; telephone: (202) 482-5484 or (202) 482-4737, respectively.

SUPPLEMENTARY INFORMATION:

Background

On January 6, 2021, Commerce published in the Federal Register the Preliminary Determination in the less-than-fair-value investigation of PVLT tires from Taiwan.¹ Commerce disclosed all calculations to interested parties on December 30, 2020. On January 5, 2021, the United Steel, Paper and Forestry, Rubber Manufacturing, Energy, Allied Industrial and Service Workers International Union (the petitioner) filed timely ministerial error allegations concerning the Preliminary Determination for respondents Nankang Rubber Tire Corp. Ltd. (Nankang) and Cheng Shin Rubber Ind. Co. Ltd. (Cheng Shin).² Commerce also received ministerial comments filed on behalf of Nankang ³ and Cheng Shin.⁴

¹ See Passenger Vehicle and Light Truck Tires from Taiwan: Preliminary Affirmative Determination of Sales at Less Than Fair Value, Postponement of Final Determination, and Extension of Provisional Measures, 86 FR 508 (January 6, 2021) (Preliminary Determination).

² See Petitioner's Letters, “Passenger Vehicle and Light Truck Tires from the Republic of Taiwan: Ministerial Error Comments—Nankang Preliminary Margin,” dated January 5, 2021 (Petitioner's Nankang Ministerial Allegations) and “Passenger Vehicle and Light Truck Tires from the Republic of Taiwan: Ministerial Error Comments—Cheng Shin Preliminary Margin,” dated January 5, 2021 (Petitioner's Cheng Shin Ministerial Allegations).

³ See Nankang's Letter, “Antidumping Investigation of Passenger Vehicle and Light Truck Tires from Taiwan—Comments on Ministerial Error in Preliminary Determination,” dated January 5, 2021 (Nankang Ministerial Allegations).

⁴ See Cheng Shin's Letter, “Passenger Vehicle and Light Truck Tires from Taiwan: Cheng Shin Rubber Ind. Co. Ltd., Significant Ministerial Error Comments,” dated January 5, 2021 (Cheng Shin Ministerial Allegations).

Period of Investigation

The period of investigation is April 1, 2019, through March 31, 2020.

Scope of the Investigation

The product covered by this investigation is PVLT tires from Taiwan. For a complete description of the scope of the investigation, see the Appendix.

Significant Ministerial Error

In accordance with 19 CFR 351.224(e), Commerce “will analyze any comments received and, if appropriate, correct any significant ministerial error by amending the preliminary determination . . . .” A ministerial error is defined in 19 CFR 351.224(f) as “an error in addition, subtraction, or other arithmetic function clerical error resulting from inaccurate copying, duplication, or the like, and any other similar type of unintentional error which the Secretary considers ministerial.” A significant ministerial error is defined as a ministerial error, the correction of which, singly or in combination with other errors, would result in: (1) A change of at least five absolute percentage points in, but not less than 25 percent of, the weighted-average dumping margin calculated in the original preliminary determination; or (2) a difference between a weighted-average dumping margin of zero or de minimis and a weighted-average dumping margin of greater than de minimis or vice versa.⁵

⁵ See 19 CFR 351.224(g)(1) and (2).

Ministerial Error Allegations

The petitioner timely alleged that Commerce made a ministerial error involving one of Nankang's programs but noted that the error was not significant.⁶ For Cheng Shin, the petitioner alleged that Commerce made significant ministerial errors regarding Cheng Shin's arm's-length test results and inclusion of Channel 3 sales in the home market sales database.⁷ Nankang alleged that Commerce committed a ministerial error by failing to use a home market of “viable” size as the basis for normal value.⁸ Finally, Cheng Shin alleged that Commerce failed to exclude certain “out-of-scope” sales in the dumping margin calculation, did not match similar CONNUMs based on similarity of product characteristics, did not exclude Channel 3 sales from the home market sales database, and failed to deduct certain selling prices in Cheng Shin's margin calculation.⁹ After analyzing these allegations, we determine that we made a significant ministerial error in the Preliminary Determination with respect to the sales used to calculate Cheng Shin's margin.¹⁰ For a detailed discussion of the aforementioned ministerial error allegations, as well as Commerce's analysis of these comments, see the Ministerial Error Memorandum.

⁶ See Petitioner's Nankang Ministerial Allegations at 2.

⁷ See Petitioner's Cheng Shin Ministerial Allegations at 2-3.

⁸ See Nankang Ministerial Allegations at 1-4.

⁹ See Cheng Shin Ministerial Allegations at 2-9.

¹⁰ See Memorandum, “Antidumping Duty Investigation of Passenger Vehicle and Light Truck Tires from Taiwan: Allegations of Significant Ministerial Errors in the Preliminary Determination,” dated January 29, 2021 (Ministerial Error Memorandum).

Pursuant to 19 CFR 351.224(g)(1), Commerce's error in the application of the arm's-length test for Cheng Shin is significant because its correction results in a change of at least five absolute percentage points in, but not less than 25 percent of, the estimated weighted-average dumping margin calculated in the Preliminary Determination (i.e., a change from an estimated weighted-average dumping margin of 52.42 percent to 30.21 percent). Therefore, we are correcting the ministerial error and amending our Preliminary Determination accordingly.¹¹

¹¹ See Ministerial Error Memorandum.

Amended Preliminary Determination

We are amending the Preliminary Determination to reflect the correction of a significant ministerial error made in the margin calculation for Cheng Shin in accordance with 19 CFR 351.224(e). In addition, because the preliminary all-others rate was based on the estimated weighted-average dumping margin calculated for Cheng Shin, we are also amending the all-others rate. As a result of the correction of the ministerial error, the revised estimated weighted-average dumping margins are as follows:

Exporter/producer | Estimated weighted- average dumping margin (percent)
Cheng Shin Rubber Ind. Co. Ltd | 33.33
All Others | 84.83

Amended Cash Deposits and Suspension of Liquidation

The collection of cash deposits and suspension of liquidation will be revised according to the rates established in this amended preliminary determination, in accordance with section 773(d) of the Tariff Act of 1930, as amended (the Act). Because these amended rates result in reduced cash deposit rates, they will be effective retroactively to January 6, 2021, the date of publication of the Preliminary Determination.

International Trade Commission Notification

In accordance with section 773(f) of the Act, we intend to notify the International Trade Commission of our amended preliminary determination.

Disclosure

We intend to disclose the calculations performed to parties in this proceeding within five days after public announcement of the amended preliminary determination, in accordance with 19 CFR 351.224.

Notification to Interested Parties

This amended preliminary determination is issued and published in accordance with sections 773(f) and 777(i) of the Act, and 19 CFR 351.224(e).

Dated: February 3, 2021.
James Maeder,
Deputy Assistant Secretary for Antidumping and Countervailing Duty Operations.

[FR Doc. 2021-02726 Filed 2-9-21; 8:45 am]

BILLING CODE 3510-DS-P